OFFICE OF SCIENCE AND TECHNOLOGY POLICY

Request for Information; Identifying Critical Needs To Inform a Federal Decadal Strategic Plan for the Interagency Council for Advancing Meteorological Services

AGENCY: Office of Science and Technology Policy (OSTP).

ACTION: Notice of Request for Information (RFI).

SUMMARY: The Office of Science and Technology Policy (OSTP) and the National Oceanic and Atmospheric Administration (NOAA), on behalf of the Interagency Council for Advancing Meteorological Services (ICAMS), requests input from all interested parties to identify opportunities for, and inform the advancement of Federal meteorological services across the meteorological enterprise. ICAMS invites input from States; Tribes; territories; individuals, including those belonging to groups that have been historically underserved, marginalized, or subject to discrimination or systemic disadvantage; local governments; appropriate industries; academic institutions; nongovernmental organizations; and international organizations with expertise in meteorological research and development, and service delivery, in both the short- (2-3 years) and long-term (next decade). This information will be used to inform the development of a new decadal strategic plan for Federal coordination of meteorological science and services using an earth system approach.

DATES: Interested persons and organizations are invited to submit comments on or before 5 p.m. ET, October 3, 2022.

ADDRESSES: Interested individuals and organizations should submit comments electronically to icams-portal@noaa.gov and include “RFI Response: ICAMS Strategic Plan” in the subject line of the email. Email submissions should be machine-readable [PDF, Word] and should not be copy-protected. Submissions received after the deadline may not be taken into consideration.

Instructions

Response to this RFI is voluntary. Each individual or organization is requested to submit only one response. Commenters can respond to one or many questions. However, the total submitted response must not exceed a total of five (5) pages in 12 point or larger font, with a page number provided on each page. A bibliography does not count towards the page limit. Submissions should clearly indicate which questions are being addressed. Responses should include the name of the person(s) or organization(s) filing the response. Responses containing references, studies, research, and other empirical data that are not widely published should include copies of or electronic links to the referenced materials. Responses containing profanity, vulgarity, threats, or other inappropriate language or content will not be considered.

Comments submitted in response to this notice are subject to the Freedom of Information Act (FOIA). No business proprietary information, copyrighted information, or personally identifiable information should be submitted in response to this RFI. Please be aware that comments submitted in response to this RFI, including the submitter's identification (as noted above), may be posted, without change, on OSTP's or another Federal website or otherwise released publicly.

In accordance with FAR 15-202(3), responses to this notice are not offers and cannot be accepted by the U.S. Government to form a binding contract. Additionally, the U.S. Government will not pay for response preparation or for the use of any information contained in the response.

FOR FURTHER INFORMATION CONTACT: For additional information, please direct questions to Scott Weaver at icams-portal@noaa.gov or 202-456-4444.

SUPPLEMENTARY INFORMATION: Background: The Interagency Council for Advancing Meteorological Services (ICAMS) is the interagency organization established in July 2020 in response to the Weather Research and Forecasting and Innovation Act of 2017.¹ ICAMS is the formal mechanism by which all relevant Federal departments and agencies coordinate implementation of policy and practices intended to advance meteorological services and ensure continued U.S. global leadership in their development and provision. By ICAMS charter, one of its primary objectives is to “lead the development of a decadal strategic plan to advance meteorological services with involvement of the Earth system science, service, and stakeholder communities.” ²

¹ H.R. 353—115th Congress (2017-2018): Weather Research and Forecasting Innovation Act of 2017 | Congress.gov | Library of Congress.

² Charter of the Interagency Council for Advancing Meteorological Services (ICAMS) (icams-portal.gov).

ICAMS leadership plans to develop this decadal strategic plan during 2022-2023. Crafting this strategy will require engaging (1) a wide range of external (non-Federal) stakeholders, (2) Federal agency partners that are new to ICAMS, and (3) Federal agency partners that were previously involved in the development and delivery of meteorological services. This strategic plan should identify opportunities for, and inform the advancement of Federal meteorological services across the meteorological enterprise, including: academia; private industry; nonprofit sector; state, local, Tribal, and federal governments; communities; individuals; and international partners; in both the short- (2-3 years) and long-term (next decade). In particular, ICAMS is interested in:

1. the major needs or requirements for meteorological services, in particular to improve societal resilience in response to global climate change and other challenges;

2. the top coordination gaps or barriers that are inhibiting progress in meteorological services to meet identified needs; and

3. the top opportunities for the Federal Government to advance meteorological services.

Scope: OSTP invites input from States; Tribes; territories; individuals, including those belonging to groups that have been historically underserved, marginalized, or subject to discrimination or systemic disadvantage; local governments; industries; academic institutions; nongovernmental organizations; and international organizations with expertise in meteorological research and development, and service delivery.

Information Requested: Respondents may provide information for one or as many topics below as they choose. Submissions should clearly indicate which questions are being addressed. For the purposes of this RFI, meteorological services are defined very broadly to:

cover all components of the Earth system, including weather, climate, hydrological, ocean, land use, and related environmental services;

span all activities over land, at sea, and in the air that contribute to the generation of value for society, including, but not limited to, the protection of life and property, personal and public health, quality of life, sustainability of the natural world, and economic and national security; and

include foundational scientific research that provides the basis for the operational activities and public-facing products that have been the traditional focus of “services.”

Given the broad scope of the meteorological enterprise, ICAMS is interested in responses to the following questions:

1. Background information: Please describe the role that you/your organization has in meteorological services. If relevant, please describe how you/your organization engages with underserved communities.

2. Engagement with the Federal Government: Has your organization successfully collaborated with the U.S. Federal Government on meteorological services in the past? If successful, please describe what you think contributed to this success (e.g., the partners involved, the partners' roles, the scope/time period of the collaboration). If relevant, please describe any metrics used to evaluate the success of this engagement. If engagement and collaboration did not work, why not? (e.g., legal, regulatory, or policy requirements; differences in work culture; lack of expertise; or any other hurdles that limited or otherwise prevented effective collaboration with Federal meteorological services.)

3. Facilitation by the Federal Government: Besides ICAMS, are you aware of other existing Federal coordination bodies that can strengthen or facilitate collaboration and/or address barriers and gaps in the advancement of meteorological services?

4. Prioritizing Existing Activities: Are there any specific meteorological services that you think are currently only partially met by the Federal Government? Are there any that are currently completely unmet? How would you/your organization benefit from the prioritization of these services or the activities that advance them?

5. Future Opportunities for the Federal Government: What future services and activities do you think the Federal Government should prioritize (please provide what you see as the top three opportunities for the Federal Government) over the next 10 years? What goals would this prioritization help you achieve? Of the opportunities you presented, please identify if any of them can be addressed in the next 2-3 years under existing programs, or if they are longer-term initiatives and strategies. And if relevant, please classify these opportunities into any of the following broad categories: observational systems; cyber, facilities, and infrastructure; research and innovation; and other cross-cutting issues. Please indicate whether there are U.S. Federal agencies/organizations that should be specifically included in those opportunities.

6. International Activities: How do U.S. capabilities in meteorological services compare to services provided by other countries? Are there meteorological services that other governments provide that the Federal Government should also provide? Are there international partners that the United States should be working with that the Federal Government is not working with currently?

7. Additional Comments: Please provide any other input that you believe is pertinent to this RFI, within the page limit.

Dated: August 16, 2022.
Stacy Murphy,
Operations Manager.

[FR Doc. 2022-17894 Filed 8-18-22; 8:45 am]

BILLING CODE 3270-F2-P